DEPARTMENT OF ENERGY

Federal Energy Regulatory Commission

[Docket No. CP20-44-000]

Notice of Request for Confirmation or, in the Alternative, Abbreviated Application for Amendment of Certificate of Public Convenience and Necessity of Iroquois Gas Transmission, L.P.

Take notice that on January 17, 2020, Iroquois Gas Transmission System, L.P. (Iroquois) filed with the Federal Energy Regulatory Commission (FERC or Commission) a request for confirmation that Iroquois' current and ongoing practices of monitoring its pipeline right of way (ROW) satisfy the environmental condition that Iroquois conduct a yearly walkover of its pipeline ROW that was incorporated by reference in the Commission's 1990 order granting Iroquois' original certificate to construct, own, and operate its interstate natural gas pipeline system (1990 Certificate Order) in the alternative, Iroquois requests that the Commission approve a limited amendment to Iroquois' certificate granted in the 1990 Certificate Order to remove the requirement that Iroquois perform and annual walkover of its pipeline ROW (Amendment Application) all as more fully set forth in the request which is on file with the Commission and open to public inspection. Iroquois requests that the Commission grant Iroquois' request (or alternatively, issue a final order granting the Amendment Application) by February 17, 2020.

The filing is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

Any questions regarding the request or Amendment Application may be directed to Kimberly A.E. Pritchard, Senior Counsel and Corporate Secretary, Iroquois Pipeline Operating Company, One Corporate Drive, Suite 600, Shelton, Connecticut 06484, phone: 203-944-7032, email: Kimberly_Pritchard@iroquois.com.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the “eFiling” link at http://www.ferc.gov. Persons unable to file electronically should submit an original and 3 copies of the protest or intervention to the Federal Energy Regulatory Commission, 888 First Street NE, Washington, DC 20426.

Comments Date: 5:00 p.m. Eastern Time on February 7, 2020.

Dated: January 23, 2020.
Kimberly D. Bose,
Secretary.

[FR Doc. 2020-01598 Filed 1-29-20; 8:45 am]

BILLING CODE 6717-01-P